ENVIRONMENTAL PROTECTION AGENCY

[EPA-R06-SFUND-2020-0323; FRL-10010-74—Region 6]

Administrative Settlement Agreement: Conroe Logistics Center, LLC

AGENCY: Environmental Protection Agency (EPA).

ACTION: Notice; request for public comment.

SUMMARY: Notice is hereby given by the U.S. Environmental Protection Agency (EPA), Region 6, of a proposed bona fide prospective purchaser settlement agreement, embodied in an Administrative Settlement Agreement for Certain Response Action Activities by Bona Fide Prospective Purchaser, with Conroe Logistics Center, LLC. This agreement pertains to a portion of the Conroe Creosoting Company Superfund Site located at 1776 East Davis Street in Conroe, Montgomery County, Texas.

DATES: Comments must be received by July 27, 2020.

ADDRESSES: The proposed settlement and related site documents can be viewed at the Superfund Records Center, United States Environmental Protection Agency, Region 6, 1201 Elm Street, Suite 500, Dallas, Texas 75270. Electronic copies online can be found at https://www.epa.gov/superfund/conroe-creosoting.

FOR FURTHER INFORMATION CONTACT: Leonard Schilling, Attorney, Office of Regional Counsel, Environmental Protection Agency Region 6, 1201 Elm Street, Suite 500, Dallas, Texas 75270; telephone number (214) 665-7166; email address Schilling.Leonard@epa.gov.

SUPPLEMENTARY INFORMATION: Written Comments: Submit your comments, identified by Docket ID No. EPA-R06-SFUND-2020-0323, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Notice is hereby given by the U.S. Environmental Protection Agency, Region 6, of a proposed bona fide prospective purchaser settlement agreement, embodied in an Administrative Settlement Agreement for Certain Response Action Activities by Bona Fide Prospective Purchaser, with Conroe Logistics Center, LLC. This agreement pertains to a portion of the former Conroe Creosoting Company Superfund Site (Site) located at 1776 East Davis Street in Conroe, Montgomery County, Texas. Conroe Logistics Center, LLC, an affiliate of Trammell Crow Company, intends to purchase a portion of the Site, conduct a response action, and construct a distribution facility. This project will result in a formerly contaminated property being restored to beneficial use.

The settlement includes a covenant by EPA not to sue or take administrative action against Conroe Logistics Center, LLC pursuant to Sections 106 and 107(a) of CERCLA for Existing Contamination, as that term is defined in the settlement agreement. For fifteen (15) days following the date of publication of this notice, EPA will receive written comments relating to the settlement. EPA will consider all comments received and may modify or withdraw its consent to the settlement agreement if comments received disclose facts or considerations that indicate that the proposed settlement is inappropriate, improper, or inadequate. EPA's response to any comments received will be available for public inspection at EPA Region 6, 1201 Elm Street, Suite 500, Dallas, Texas 75270.

Dated: July 7, 2020.
David Gray,
Acting Regional Administrator, Region 6.

[FR Doc. 2020-14978 Filed 7-9-20; 8:45 am]

BILLING CODE 6560-50-P